LIBRARY OF CONGRESS

Copyright Royalty Board

[Docket No. 14-CRB-0006 DART SR (2013)]

Distribution of 2013 DART Sound Recordings Fund Royalties

AGENCY: Copyright Royalty Board, Library of Congress.

ACTION: Notice soliciting comments on motion for partial distribution.

SUMMARY: The Copyright Royalty Judges solicit comments on a motion for partial distribution in connection with 2013 DART Sound Recordings Fund royalties.

DATES: Comments are due on or before November 5, 2014.

ADDRESSES: The Notice and Request is posted on the agency's Web site (www.loc.gov/crb). Submit electronic comments to crb@loc.gov. See the Supplementary Information section below for instructions on submitting comments in other formats.

FOR FURTHER INFORMATION CONTACT: LaKeshia Keys, Program Specialist, by telephone at (202) 707-7658 or email at crb@loc.gov.

SUPPLEMENTARY INFORMATION: On August 19, 2014, the Alliance of Artists and Recording Companies (“AARC”), on behalf of itself and claimants with which it has reached settlements (the “Settling Claimants”) filed with the Copyright Royalty Judges (Judges) a Notice of Settlement and Request for Partial Distribution of the 2013 DART Sound Recordings Fund Featured Recording Artists and Copyright Owners Subfunds Royalties (“Notice and Request”). In the Notice and Request, AARC states that the Settling Claimants have reached a settlement among themselves concerning distribution of the 2013 DART Sound Recordings Fund Royalties. With respect to the Featured Recording Artists Subfund, AARC represents that it has reached settlements with all but three claimants for that subfund and that the nonsettling claimants have unit sales totaling 76,269.86¹ in a universe of over one billion claimants' sound recordings sold in 2013. Notice and Request at 2. With respect to the Copyright Owners Subfund, AARC represents that it has reached settlements with all but five claimants. AARC represents that the nonsettling claimants have combined unit sales of 16,693 in a universe of over one billion claimants' record sales in 2013. Id.

¹ The decimal in this figure represents credit for part of the sale of an album. Mr. Clinton and Mr. Ford have some tracks on albums sold, and they get credit for those tracks.

AARC requests a partial distribution of 98% from each of the subfunds pursuant to Section 801(b)(3)(C) of the Copyright Act. Under that section of the Copyright Act, before ruling on a partial distribution motion the Judges must publish a notice in the Federal Register seeking responses to the motion to ascertain whether any claimant entitled to receive such royalty fees has a reasonable objection to the proposed distribution. Consequently, this Notice seeks comments from interested claimants on whether any reasonable objection exists that would preclude the distribution of 98% of the 2013 DART Sound Recordings Royalty funds (Featured Recording Artists Subfund and Copyright Owners Subfund) to the Settling Claimants. ANY PARTY WISHING TO ADVISE THE JUDGES OF THE EXISTENCE AND EXTENT OF AN OBJECTION MUST DO SO, IN WRITING, BY THE END OF THE COMMENT PERIOD. THE JUDGES WILL NOT CONSIDER ANY OBJECTIONS WITH RESPECT TO THE PARTIAL DISTRIBUTION MOTION THAT COME TO THEIR ATTENTION AFTER THE CLOSE OF THAT PERIOD.

The Judges have received notice of apparent objections from non-settling claimants George Clinton and Ronald Ford (by email, which is not an acceptable method of filing), and Eugene Curry/Tajai Music Inc., all appearing pro se. All three claimants state, inter alia, that the figures representing sales of their copyrighted material were not accurately calculated by the moving party's expert. Notice of Individual Claimant Eugene Curry/Tajai Music Inc, for the Request for the Distribution of the Remaining 2% of the Copyright Owners 2013 Subfund Royalties at 1 (September 19, 2014); Email to crb (Copyright Royalty Board) from Carlon Thompson regarding claimants Clinton and Ford at 2 (August 25, 2014, 1:43 p.m.).

The Judges will also accept comments addressing the three claimants' informal objections by the end of the comment period.

How To Submit Comments

Interested claimants must submit comments to only one of the following addresses. Unless responding by email, claimants must submit an original, five paper copies, and an electronic version on a CD.

Email: crb@loc.gov; or

U.S. mail: Copyright Royalty Board, PO Box 70977, Washington, DC 20024-0977; or

Overnight service (only USPS Express Mail is acceptable): Copyright Royalty Board, P.O. Box 70977, Washington, DC 20024-0977; or

Commercial courier: Address package to: Copyright Royalty Board, Library of Congress, James Madison Memorial Building, LM-403, 101 Independence Avenue SE., Washington, DC 20559-6000. Deliver to: Congressional Courier Acceptance Site, 2nd Street NE and D Street NE., Washington, DC; or

Hand delivery: Library of Congress, James Madison Memorial Building, LM-401, 101 Independence Avenue SE., Washington, DC 20559-6000.

Dated: September 30, 2014.
Suzanne M. Barnett,
Chief U.S. Copyright Royalty Judge.

[FR Doc. 2014-23654 Filed 10-3-14; 8:45 am]

BILLING CODE 1410-72-P